DEPARTMENT OF LABOR

Occupational Safety and Health Administration

[Docket No. OSHA-2006-0042]

Canadian Standards Association; Expansion of Recognition

AGENCY: Occupational Safety and Health Administration (OSHA), Labor.

ACTION: Notice.

SUMMARY: This notice announces the Occupational Safety and Health Administration's final decision expanding the recognition of the Canadian Standards Association (CSA) as a Nationally Recognized Testing Laboratory under 29 CFR 1910.7.

DATES: The expansion of recognition becomes effective on March 7, 2007.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice of the expansion of recognition of the Canadian Standards Association (CSA) as a Nationally Recognized Testing Laboratory (NRTL). CSA's expansion covers the use of additional test standards. OSHA's current scope of recognition for CSA may be found in the following informational Web page: http://www.osha.gov/dts/otpca/nrtl/csa.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL that details its scope of recognition. These pages can be accessed from our Web site at http://www.osha.gov/dts/otpca/nrtl/index.html.

CSA submitted an application, dated July 5, 2005, (see Exhibit 34-1) to expand its recognition to include 12 additional test standards. The NRTL Program staff determined that nine of these standards are “appropriate test standards” within the meaning of 29 CFR 1910.7(c). However, one of these standards was already included in CSA's scope. Therefore, OSHA is approving eight test standards for the expansion. In connection with this request, OSHA did not perform an on-site review of CSA's NRTL testing facilities. However, NRTL Program assessment staff reviewed information pertinent to the request and recommended expansion for the eight additional test standards (see Exhibit 34-2).

The preliminary notice announcing the expansion application was published in the Federal Register on October 6, 2006 (71 FR 59129). Comments were requested by October 23, 2006, but no comments were received in response to this notice. OSHA is now proceeding with this final notice to grant CSA's expansion application.

The most recent application processed by OSHA specifically related to CSA's recognition granted an expansion, and the final notice for this expansion was published on August 26, 2003 (68 FR 51303).

You may obtain or review copies of all public documents pertaining to the CSA application by contacting the Docket Office, Occupational Safety and Health Administration, U.S. Department of Labor, 200 Constitution Avenue, NW., Room N-2625, Washington, DC 20210. Docket No. OSHA-2006-0042 (formerly NRTL2-92) contains all materials in the record concerning CSA's recognition.

The current addresses of the CSA facilities already recognized by OSHA are:

Canadian Standards Association, 178 Rexdale Boulevard (Toronto), Etobicoke, ON M9W 1R3, Canada;

CSA International, Pointe-Claire (Montreal), 865 Ellingham Street, Pointe-Claire, PQ H9R 5E8, Canada;

CSA International, Richmond (Vancouver), 13799 Commerce Parkway, Richmond, BC V6V 2N9, Canada;

CSA International, Edmonton, 1707-94th Street, Edmonton, AB T6N 1E6, Canada;

CSA International, Irvine, 2805 Barranca Parkway, Irvine, CA 92606; and

CSA International, Cleveland, 8501 East Pleasant Valley Road, Cleveland, OH 44131.

Final Decision and Order

NRTL Program staff has examined the application, the assessor's recommendation, and other pertinent information. Based upon this examination and the assessor's recommendation, OSHA finds that CSA has met the requirements of 29 CFR 1910.7 for expansion of its recognition, subject to the limitation and conditions listed below. Pursuant to the authority in 29 CFR 1910.7, OSHA hereby expands the recognition of CSA, subject to this limitation and these conditions.

Limitation

OSHA limits the expansion of CSA's recognition to testing and certification of products for demonstration of conformance to the following test standards, each of which OSHA has determined is an appropriate test standard, within the meaning of 29 CFR 1910.7(c):

UL 568 | Nonmetallic Cable Tray Systems.
FM 3810 | Electrical and Electronic Test, Measuring, and Process Control Equipment.
UL 61010A-2-010 | Electrical Equipment for Laboratory Use; Part 2: Particular Requirements for Laboratory Equipment for the Heating of Materials.
UL 61010A-2-041 | Electrical Equipment for Laboratory Use; Part 2: Particular Requirements for Autoclaves Using Steam for the Treatment of Medical Materials and for Laboratory Processes.
UL 61010A-2-042 | Electrical Equipment for Laboratory Use; Part 2: Particular Requirements for Autoclaves and Sterilizers Using Toxic Gas for the Treatment of Medical Materials, and for Laboratory Processes.
UL 61010A-2-051 | Electrical Equipment for Laboratory Use; Part 2: Particular Requirements for Laboratory Equipment for Mixing and Stirring.
UL 61010A-2-061 | Electrical Equipment for Laboratory Use; Part 2: Particular Requirements for Laboratory Atomic Spectrometers with Thermal Atomization and Ionization.
UL 61010B-2-031 | Electrical Equipment for Measurement, Control, and Laboratory Use; Part 2: Particular Requirements for Hand-Held Probe Assemblies for Electrical Measurement and Test.

The designations and titles of the above test standards were current at the time of the preparation of the preliminary notice.

OSHA's recognition of CSA, or any NRTL, for a particular test standard is limited to equipment or materials (i.e., products) for which OSHA standards require third-party testing and certification before use in the workplace. Consequently, if a test standard also covers any product(s) for which OSHA does not require such testing and certification, an NRTL's scope of recognition does not include that product(s).

Many UL test standards are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Conditions

CSA must also abide by the following conditions of the recognition, in addition to those already required by 29 CFR 1910.7:

OSHA must be allowed access to CSA's facilities and records for purposes of ascertaining continuing compliance with the terms of its recognition and to investigate as OSHA deems necessary;

If CSA has reason to doubt the efficacy of any test standard it is using under this program, it must promptly inform the test standard developing organization of this fact and provide that organization with appropriate relevant information upon which its concerns are based;

CSA must not engage in or permit others to engage in any misrepresentation of the scope or conditions of its recognition. As part of this condition, CSA agrees that it will allow no representation that it is either a recognized or an accredited Nationally Recognized Testing Laboratory (NRTL) without clearly indicating the specific equipment or material to which this recognition is tied, or that its recognition is limited to certain products;

CSA must inform OSHA as soon as possible, in writing, of any change of ownership, facilities, or key personnel, and of any major changes in its operations as an NRTL, including details;

CSA will meet all the terms of its recognition and will always comply with all OSHA policies pertaining to this recognition; and

CSA will continue to meet the requirements for recognition in all areas where it has been recognized.

Signed at Washington, DC, this 26th day of February, 2007.
Edwin G. Foulke, Jr.,
Assistant Secretary of Labor.

[FR Doc. E7-3953 Filed 3-6-07; 8:45 am]

BILLING CODE 4510-26-P